DEPARTMENT OF TRANSPORTATION

National Highway Traffic Safety Administration

Reports, Forms and Recordkeeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment.The ICR describes the nature of the information collections and their expected burden.The Federal Register notice with a 60-day comment period was published on June 30, 2004 (69 FR 39359-39540). No comments were received.

DATES: Comments must be submitted on or before January 3, 2005.

FOR FURTHER INFORMATION CONTACT: Lori Summers at the National Highway Traffic Safety Administration, Office of Rulemaking (NVS-112), 202-366-4917, 400 Seventh Street, SW., Room 5307, Washington, DC 20590.

SUPPLEMENTARY INFORMATION:

National Highway Traffic Safety Administration

Title: Consolidated Labeling Requirements for Motor Vehicles (Except the VIN).

OMB Number: 2127-0512.

Type of Request: Extension of a currently approved collection.

Abstract: In order to ensure that manufacturers are complying with the FMVSS and regulations, NHTSA requires a number of specific labeling requirements. FMVSS No. 105, “Hydraulic and electric brake systems” and FMVSS No. 135, “Passenger car brake systems,” require that each vehicle shall have a brake fluid warning statement in letters at least one-eighth of an inch high on the master cylinder reservoirs and located so as to be visible by direct view. FMVSS No. 205, “Glazing materials,” requires that manufacturers mark their automotive glazing with certain label information. In addition, for certain specialty glazing items, manufacturers are required to affix a removable label to each item. FMVSS No. 209, “Seat belt assemblies,” requires safety belts to be labeled with the year of manufacture, the model, and the name or trademark of the manufacturer. Additionally, replacement safety belts that are for use only in specifically stated motor vehicles must have labels or accompanying instruction sheets to specify the applicable vehicle models and seating positions. All other replacement belts are required to be accompanied by an installation instruction sheet. Part 567, “Certification,” requires each manufacturer or distributor of motor vehicles to furnish to the dealer, or distributor of the vehicle, a certification that the vehicle meets all applicable FMVSS. This certification is required to be in the form of a label permanently affixed to the vehicle.

Affected Public: Manufacturers are required to place these labels on each master cylinder reservoir, each piece of motor vehicle glazing, each safety belt and every motor vehicle intended for retail sale in the United States.

Estimated Total Annual Burden: 73,071 hours.

ADDRESSES: Send comments, within 30 days, to the Office of Information and Regulatory Affairs, Office of Management and Budget, 725-17th Street, NW., Washington, DC 20503, Attention: NHTSA Desk Officer.

Comments Are Invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication.

Issued in Washington, DC, on November 15, 2004.
Stephen R. Kratzke,
Associate Administrator for Rulemaking.

[FR Doc. 04-26527 Filed 12-1-04; 8:45 am]

BILLING CODE 4910-59-P